DEPARTMENT OF TRANSPORTATION

Surface Transportation Board

[STB Finance Docket No. 33897]

Arkansas-Oklahoma Railroad Company—Lease and Operation Exemption—Union Pacific Railroad Company

Arkansas-Oklahoma Railroad Company, a Class III rail carrier, has filed a verified notice of exemption under 49 CFR 1150.41 to lease and operate 35.5 miles of rail line from Union Pacific Railroad Company between milepost 446.5, near Shawnee, OK, and milepost 482.0, near Oklahoma City, OK.

The transaction was scheduled to be consummated within seven days following the July 7, 2000 effective date of the exemption.

If the notice contains false or misleading information, the exemption is void ab initio. Petitions to revoke the exemption under 49 U.S.C. 10502(d) may be filed at any time. The filing of a petition to revoke does not automatically stay the transaction.

An original and 10 copies of all pleadings, referring to STB Finance Docket No. 33897, must be filed with the Surface Transportation Board, Office of the Secretary, Case Control Unit, 1925 K Street, NW., Washington, DC 20423-0001. In addition, a copy of each pleading must be served on Edward W. Landreth, Arkansas-Oklahoma Railroad Company, P.O. Box 485, Wilburton, OK 74578.

Board decisions and notices are available on our website at “WWW.STB.DOT.GOV.”

Dated:Decided: July 13, 2000.
By the Board, Joseph H. Dettmar, Acting Director, Office of Proceedings.
Vernon A. Williams,
Secretary.

[FR Doc. 00-18429 Filed 7-20-00; 8:45 am]

BILLING CODE 4915-00-P